DEPARTMENT OF LABOR

Office of the Secretary

Submission for OMB Review: Comment Request

August 30, 2005.

The Department of Labor (DOL) has submitted the following public information collection requests (ICRs) to the Office of Management and Budget (OMB) for review and approval in accordance with the Paperwork Reduction Act of 1995 (Pub. L. 104-13, 44 U.S.C. chapter 35). A copy of each ICR, with applicable supporting documentation, may be obtained by contacting Darrin King on 202-693-4129 (this is not a toll-free number) or e-mail: king.darrin@dol.gov.

Comments should be sent to Office of Information and Regulatory Affairs, Attn: OMB Desk Officer for the Occupational Safety and Health Administration (OSHA), Office of Management and Budget, Room 10235, Washington, DC 20503, 202-395-7316 (this is not a toll-free number), within 30 days from the date of this publication in the Federal Register.

The OMB is particularly interested in comments which:

• Evaluate whether the proposed collection of information is necessary for the proper performance of the functions of the agency, including whether the information will have practical utility;

• Evaluate the accuracy of the agency's estimate of the burden of the proposed collection of information, including the validity of the methodology and assumptions used;

• Enhance the quality, utility, and clarity of the information to be collected; and

• Minimize the burden of the collection of information on those who are to respond, including through the use of appropriate automated, electronic, mechanical, or other technological collection techniques or other forms of information technology, e.g., permitting electronic submission of responses.

Agency: Occupational Safety and Health Administration.

Type of Review: Extension of currently approved collection.

Title: Onsite Consultation Agreements (29 CFR Part 1908).

OMB Number: 1218-0110.

Frequency: On occasion; Quarterly; Biennially; and Annually.

Type of Response: Reporting; Recordkeeping; and Third party disclosure.

Affected Public: State, Local, or Tribal Government; Business or other for-profit; Not-for-profit institutions; and Federal Government.

Number of Respondents: 31,048.

Number of Annual Responses: 31,000.

Estimated Time Per Response: Varies from 3 minutes for an employer or plant manager to sign a safety and health achievement recognition program application to 32 hours for an onsite consultation program manager to submit an agreement once per year.

Total Burden Hours: 21,771.

Total Annualized capital/startup costs: $0.

Total Annual Costs (operating/maintaining systems or purchasing services): $0.

Description: The Occupational Safety and Health Act of 1970 (the Act) (29 U.S.C. 651 et seq.) authorizes information collection by employers as necessary or appropriate for enforcement of the Act or for developing information regarding the causes and prevention of occupational injuries, illnesses, and accidents (29 U.S.C. 657).

Section 7(c)(1) of the Act authorizes the Secretary of Labor to, “with the consent of any State or political subdivision thereof, accept and use the services, facilities, and personnel of any agency of such State or subdivision with reimbursement.” Section 21(C) of the Act authorizes the Secretary of Labor (Secretary) to, “consult with and advise employers and employees * * * as to effective means of preventing occupational illnesses and injuries.”

Additionally, Section 21(d) of the Act instructs the Secretary to “establish and support cooperative agreements with the States under which employers subject to the Act may consult with State personnel with respect to the application of occupational safety and health requirements under the Act or under State plans approved under section 18 of the Act.” This gives the Secretary authority to enter into agreements with the States to provide onsite consultation services, and established rules under which employers may qualify for an inspection exemption. To satisfy the intent of these and other sections of the Act, OSHA codified the terms that govern cooperative agreements between OSHA and State governments whereby State agencies provide onsite consultation services to private employers to assist them in complying with the requirements of the OSH Act. The terms were codified as the Consultation Program regulations (29 CFR part 1908).

The Consultation Program regulations specify services to be provided, and practices and procedures to be followed by the State Onsite Consultation Programs. Information collection requirements set forth in the Onsite Consultation Program regulations are in two categories: State Responsibilities and Employer Responsibilities. Eight regulatory provisions require information collection activities by the State. The Federal government provides 90 percent of funds for onsite consultation services delivered by the States, which result in the information collection. Four requirements apply to employers and specify conditions for receiving the free consultation services.

Agency: Occupational Safety and Health Administration.

Type of Review: New collection of Information.

Title: Survey of Automatic External Defibrillator use in Occupational Setting.

OMB Number: 1218-0NEW.

Frequency: One time.

Type of Response: Reporting.

Affected Public: Business or other for-profit; Not-for-profit institutions; Federal Government; and State, Local, or Tribal Government.

Number of Respondents: 4,000.

Number of Annual Responses: 5,036.

Estimated Time Per Response: 10 to 15 minutes.

Total Burden Hours: 551.

Total Annualized capital/startup costs: $0.

Total Annual Costs (operating/maintaining systems or purchasing services): $0.

Description: The Office of Management and Budget (OMB) has requested that OSHA conduct a comprehensive study of the usefulness and efficacy of Automatic External Defibrillator (AEDs) in occupational settings. To gather more information about AED use in occupational settings, OSHA will conduct a statistical survey of selected establishments in OSHA-regulated industrial sectors to develop statistically accurate estimates of the current prevalence of AED programs in various industrial sectors. OHSA will also develop estimates of the percentages of establishments that have considered, but not implemented such programs. Additionally, OSHA will collect information on the characteristics of AED programs and establishments (e.g., size, industry, workforce age distribution, etc.) that may correlate with the presence or lack of an AED program. Finally, OSHA plans to supplement the statistical survey with extended case study interviews with selected respondents from the statistical survey. These interviews will provide in-depth, albeit qualitative, information about various factors that influence decisions on whether to implement AED programs, as well as about the circumstances that underlie the cost and effectiveness of such programs.

OSHA has conducted a thorough search and review of existing studies and other literature about AED use. Only limited information is available about AED use in occupational settings, although substantial literature exists addressing AED use in public settings. In addition, OSHA found little direct evidence about AED cost-effectiveness in the workplace. Collection of information sought by OSHA from establishments concerning the use of automatic external defibrillators in occupational settings will include:

1. Profile information, including industry, type of operation, number of employees, age distribution of employees, presence of safety or health professionals on staff, and experience with sudden cardiac events.

2. Characteristics of AED programs in place, including number of units, number of employees trained, type and frequency of training, and percentage of workforce protected by AEDs.

3. Factors influencing decisions whether to invest in AED equipment or implement an AED program, including experience with sudden cardiac events, role of marketing by AED manufacturers, costs of AED equipment, costs of training, cost of maintenance, and liability concerns.

4. Frequency of use of AED units and their effectiveness in cases of employee heart attacks or other sudden cardiac events.

5. In-depth interviews on issues identified with respect to Topics 2, 3, and 4 will be conducted during post-survey case study interviews.

OHSA plans to use this information, first, to identify the occupational settings in which AEDs are most cost-effective. Second, OSHA will use the survey results to identify barriers to expanding AED use and to help design effective outreach programs to encourage establishments to install AED equipment. Without this survey, OSHA will lack information about the current prevalence of AED programs in occupational settings. The Agency will also lack information on the characteristics of establishments with and without AED programs and about the factors that have influenced establishments' decisions whether to implement AED programs. Without this knowledge, OSHA will have difficulty determining the efficacy of different strategies that might be used to encourage the implementation of workplace AED programs such as developing outreach and promotion programs.

The proposed collection of information consists of a two-stage statistical survey of at least 1,000 establishments in OSHA-regulated industries that have 100 or more employees. In the first stage, OSHA will survey establishments from the universe population to gather baseline profile information and to screen for establishments that either (1) have an AED program in place, or (2) have considered implementing an AED program but have not done so. In the second stage, screened respondents will be asked questions specific to which group their establishment belongs (i.e., currently has an AED program or considered but has not implemented such a program).

As an adjunct to the statistical survey, OSHA plans to conduct as many as 36 in-depth case study interviews with selected volunteers among respondents in both the groups that do and do not have AED programs. These open-ended interviews will permit OSHA to gather detailed qualitative information about key issues pertaining to the implementation, cost, and effectiveness of AED programs and factors deterring implementation of such programs.

Ira L. Mills,
Departmental Clearance Officer.

[FR Doc. 05-17783 Filed 9-7-05; 8:45 am]

BILLING CODE 4510-26-P